NATIONAL AERONAUTICS AND SPACE ADMINISTRATION

[Notice (02-050)]

Submission for OMB Review; Comment Request

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). The purpose of this collection is to measure the effectiveness of interventions and improvements in general aviation safety.

DATES: Comments on this proposal should be received within 30 calendar days from the date of this publication.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Title: National Aviation Operations Monitoring Service.

OMB Number: 2700-0099.

Type of review: Extension.

Need and Uses: The information developed by the National Aviation Operations Monitoring Service will be used by NASA Aviation Safety Program managers to evaluate the progress of their efforts to improve aviation over the next decade.

Affected Public: Individuals or households.

Number of Respondents: 8,000.

Responses Per Respondent: 1.

Annual Responses: 8,000.

Hours Per Request: Approximately ½ hour.

Annual Burden Hours: 5,455.

Frequency of Report: Quarterly; annually.

David B. Nelson,
Deputy Chief Information Officer, Office of the Administrator.

[FR Doc. 02-9107 Filed 4-15-02; 8:45 am]

BILLING CODE 7510-01-P